OFFICE OF THE UNITED STATES TRADE REPRESENTATIVE

Request for Comments Concerning Proposed Transatlantic Trade and Investment Agreement

AGENCY: Office of the United States Trade Representative (USTR).

ACTION: Request for comments and notice of a public hearing.

SUMMARY: On March 20, 2013, the United States Trade Representative (USTR) notified Congress of the Administration's intention to enter into negotiations for a Transatlantic Trade and Investment Partnership (TTIP) agreement with the European Union (EU) aimed at achieving a substantial increase in transatlantic trade and investment. Before initiating such negotiations, the Trade Act of 1974 requires that, with respect to any proposed trade agreement, any interested persons be afforded an opportunity to present his or her view regarding any matters related to the proposed trade agreement. Accordingly, USTR is seeking public comments on the proposed TTIP, including regarding U.S. interests and priorities, in order to develop U.S. negotiating positions. Comments may be provided in writing and orally at a public hearing.

DATES: Written comments are due by midnight, May 10, 2013. Persons wishing to testify orally at the hearing must provide written notification of their intention, as well as a summary of their testimony, by midnight, May 10, 2013. The hearing will be held on May 29 and 30 beginning at 9:30 a.m., at the main hearing room of the United States International Trade Commission, 500 E Street SW., Washington, DC 20436.

ADDRESSES: Public comments should be submitted electronically at www.regulations.gov. If you are unable to provide submissions at www.regulations.gov, please contact Yvonne Jamison, Trade Policy Staff Committee (TPSC), at (202) 395-3475, to arrange for an alternative method of transmission.

FOR FURTHER INFORMATION CONTACT: For procedural questions concerning written comments, please contact Yvonne Jamison at the above number. All other questions regarding the TTIP agreement should be directed to David Weiner, Deputy Assistant USTR for Europe, at (202) 395-9679.

SUPPLEMENTARY INFORMATION:

1. Background

The decision to launch negotiations for a TTIP agreement follows a year-long exploratory process conducted by the U.S.-EU High Level Working Group on Jobs and Growth (HLWG), established by President Obama and EU leaders during their November 2011 Summit Meeting, and led by U.S. Trade Representative Ron Kirk and EU Commissioner for Trade Karel De Gucht. USTR provided two opportunities for the public to comment as part of the HLWG mandate in 2012; comments received in response to these solicitations, and during a large number of advisory committee briefings and other meetings with stakeholders, played an important role in shaping the HLWG's recommendations. In its February 11, 2013 Final Report, the HLWG concluded that an agreement that addresses a broad range of bilateral trade and investment policies, as well as global issues of common interest, could generate substantial economic benefits on both sides of the Atlantic. (See http://www.ustr.gov/about-us/press-office/reports-and-publications/2013/final-report-us-eu-hlwg).

USTR is observing the consultative and administrative procedures of the Bipartisan Trade Promotion Authority Act of 2002 (19 U.S.C. 3804) with respect to notifying and consulting with Congress regarding the TTIP negotiations. These procedures include providing Congress with 90 days advance written notice of the President's intent to enter into negotiations and consulting with appropriate Congressional committees regarding the negotiations. To that end, on March 20, 2013, after having consulted with relevant Congressional committees, the USTR notified Congress that the President intends to enter into negotiations of an agreement with the EU, with the objective of concluding a high-standard agreement that will benefit U.S. workers, manufacturers, service suppliers, farmers, ranchers, innovators, creators, small- and medium-sized businesses, and consumers.

In addition, under the Trade Act of 1974, as amended (19 U.S.C. 2151, 2153), in the case of an agreement such as the proposed TTIP agreement, the President must (i) afford interested persons an opportunity to present their views regarding any matter relevant to the proposed agreement, (ii) designate an agency or inter-agency committee to hold a public hearing regarding the proposed agreement, and (iii) seek the advice of the U.S. International Trade Commission (ITC) regarding the probable economic effect on U.S. industries and consumers of the modification of tariffs on imports pursuant to the proposed agreement. USTR intends to hold a public hearing on specific issues pertaining to the proposed negotiations on May 29 and 30, 2013. In addition, USTR has requested that the ITC provide advice to USTR on the probable economic effects of an agreement.

2. Public Comments

Written Comments: The TPSC Chair invites interested parties to submit written comments to assist USTR as it works with other U.S. government agencies and continues to consult with Congress to develop U.S. negotiating objectives and proposals for the proposed TTIP agreement. Comments may address the reduction or elimination of tariffs or non-tariff barriers on any articles provided for in the Harmonized Tariff Schedule of the United States (HTSUS) that are products of the EU, any concession that should be sought by the United States, or any other matter relevant to the proposed agreement. The TPSC Chair invites comments on all of these matters and, in particular, seeks comments regarding:

(a) General and product-specific negotiating objectives for the proposed agreement;

(b) economic costs and benefits to U.S. producers and consumers of removal of tariffs and removal or reduction in non-tariff barriers on articles traded with the EU;

(c) treatment of specific goods (described by HTSUS numbers) under the proposed agreement, including comments on—

(1) product-specific import or export interests or barriers,

(2) experience with particular measures that should be addressed in the negotiations, and

(3) approach to tariff negotiations, including recommended staging and ways to address export priorities and import sensitivities in the context of the proposed agreement;

(d) adequacy of existing customs measures to ensure that duty rates under an agreement with the EU apply only to goods eligible to receive such treatment, and appropriate rules of origin for goods entering the United States under the proposed agreement;

(e) existing sanitary and phytosanitary measures and technical barriers to trade that should be addressed in the negotiations;

(f) opportunities for greater transatlantic regulatory compatibility, including concrete ideas on how greater compatibility could be achieved in a particular economic sector, without diminishing the ability of the United States to continue to meet legitimate regulatory objectives, for example with respect to health, safety and the environment, and which sectors should be the focus of such efforts;

(g) opportunities to reduce unnecessary costs and administrative delays stemming from regulatory differences, including how that could be achieved in a particular economic sector;

(h) opportunities to enhance customs cooperation between the United States and the EU and its member states, ensure transparent, efficient, and predictable conduct of customs operations, and ensure that customs measures are not applied in a manner that creates unwarranted procedural obstacles to trade;

(i) existing barriers to trade in services between the United States and the EU that should be addressed in the negotiations;

(j) relevant electronic commerce and cross-border data flow issues that should be addressed in the negotiations;

(k) relevant investment issues that should be addressed in the negotiations;

(l) relevant competition-related matters that should be addressed in the negotiations;

(m) relevant government procurement issues, including coverage of any government agencies or state-owned enterprises engaged in procurements of interest, that should be addressed in the negotiations;

(n) relevant environmental issues that should be addressed in the negotiations;

(o) relevant labor issues that should be addressed in the negotiations;

(p) relevant transparency and anticorruption issues that should be addressed in the negotiations; and

(q) relevant trade-related intellectual property rights issues that should be raised with the EU.

In addition to the matters described above, the TPSC invites comments on new principles or disciplines addressing emerging challenges in international trade that should be pursued in the negotiations and that would benefit U.S.-EU trade as well as strengthen the multilateral rules-based trading system and support other trade-related priorities, including, for example, with respect to state-owned enterprises, “localization” barriers to trade, and other developments on which the United States and the EU may share similar concerns.

At a later date, USTR, through the TPSC, will publish notice of reviews regarding (a) the possible environmental effects of the proposed agreement and the scope of the U.S. environmental review of the proposed agreement, and (b) the impact of the proposed agreement on U.S. employment and labor markets.

Oral Testimony: A hearing will be held on May 29 and May 30 in the Main Hearing Room at the U.S. International Trade Commission, 500 E St. SW., Washington, DC 20436. Persons wishing to testify at the hearing must provide written notification of their intention by May 10, 2013. The intent to testify notification must be made in the “Type Comment” field under docket number USTR-2013-0019 on the regulations.gov Web site and should include the name, address and telephone number of the person presenting the testimony. A summary of the testimony must accompany the notification. Remarks at the hearing should be limited to no more than five minutes to allow for possible questions from the TPSC.

3. Requirements for Submissions

Persons submitting comments must do so in English and must identify (on the first page of the submission) the “Transatlantic Trade and Investment Partnership.” In order to be assured of consideration, comments should be submitted by May 10, 2013.

In order to ensure the timely receipt and consideration of comments, USTR strongly encourages commenters to make on-line submissions, using the www.regulations.gov Web site. To submit comments via www.regulations.gov, enter docket number USTR-2013-0019 on the home page and click “search.” The site will provide a search-results page listing all documents associated with this docket. Find a reference to this notice and click on the link entitled “Comment Now!” (For further information on using the www.regulations.gov Web site, please consult the resources provided on the Web site by clicking on “How to Use This Site” on the left side of the home page).

The www.regulations.gov Web site allows users to provide comments by filling in a “Type Comment” field, or by attaching a document using an “Upload File” field. USTR prefers that comments be provided in an attached document. If a document is attached, it is sufficient to type “See attached” in the “Type Comment” field. USTR prefers submissions in Microsoft Word (.doc) or Adobe Acrobat (.pdf). If the submission is in an application other than those two, please indicate the name of the application in the “Type Comment” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov, if at all possible. Any alternative arrangements must be made with Ms. Jamison in advance of transmitting a comment. Ms. Jamison should be contacted at (202) 395-3475. General information concerning USTR is available at www.ustr.gov.

4. Public Inspection of Submissions

Comments will be placed in the docket and open to public inspection, except business confidential information. Comments may be viewed on the http:www.regulations.gov Web site by entering the relevant docket number in the search field on the home page.

Douglas Bell,
Chair, Trade Policy Staff Committee.

[FR Doc. 2013-07430 Filed 3-29-13; 8:45 am]

BILLING CODE 3290-F3-P